DEPARTMENT OF COMMERCE

Foreign-Trade Zones Board

[Docket 58-2009]

Foreign-Trade Zone 2—New Orleans, LA, Area Application for Reorganization Under Alternative Site Framework

An application has been submitted to the Foreign-Trade Zones (FTZ) Board (the Board) by the Board of Commissioners of the Port of New Orleans, grantee of FTZ 2, requesting authority to reorganize the zone under the alternative site framework (ASF) adopted by the Board (74 FR 1170, 1/12/09; correction 74 FR 3987, 1/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on December 14, 2009.

FTZ 2 was approved by the Board on July 16, 1946 (Board Order 12), had eleven boundary changes from 1950-1969 (Board Orders 22, 36, 40, 45, 49, 52, 56, 64, 67, 70 and 79), and was expanded on April 9, 1984 (Board Order 245), on May 8, 1986 (Board Order 331), on November 13, 1991 (Board Order 544), on August 25, 1998 (Board Order 1000), and on December 30, 2003 (Board Order 1310).

The current zone project includes the following sites: Site 1 (2 acres, expires 7/1/2011)—Abbott Laboratories International Company, 1015 Distributors Row, Harahan; Site 2 (76 acres)—Almonastar-Michoud Industrial District, Inner Harbor Navigation Canal and the Mississippi River Gulf Outlet; Site 3 (534 acres)—Newport Industrial Park, Paris Road, New Orleans; Site 4 (4 acres)—200 Crofton Road, Kenner (adjacent to the New Orleans International Airport); Site 6 (136 acres)—Arabi Terminal and Industrial Park located at Mile Point 90.5 on the Mississippi River, Arabi; Site 7 (216 acres)—Chalmette Terminal and Industrial Park, Old Kaiser Plant, St. Bernard Highway, New Orleans; Site 8 (1.49 acres)—Metro International Trade Services (MITS), 4501 North Galvez Street, New Orleans; Site 9 (1.42 acres)—MITS, 1560 Tchoupitoulas Avenue, New Orleans; Site 10 (3.15 acres)—MITS, 5301 Jefferson Highway, New Orleans; Site 11 (4.59 acres)—MITS, 700 Edwards Avenue, New Orleans; Site 12 (6.65 acres, expires 8/31/2011)—Port Cargo Service, LLC (PCS), 333 Edwards Avenue, Jefferson Parish; Site 13 (4.05 acres, expires 8/31/2011)—PCS, 415 Edwards Avenue, Jefferson Parish; Site 14 (2.29 acres, expires 8/31/2011)—PCS, 5725 Powell Street, Jefferson Parish; Site 15 (7.6 acres, expires 8/31/2011)—PCS, 6040 Beven Street, Jefferson Parish; Site 16 (5 acres, expires 8/31/2011)—PCS, 325 Hord Street, Jefferson Parish; Site 17 (19.12 acres, 4 parcels, expires 8/31/2011)—MITS, Port of New Orleans Nashville Avenue Terminal Complex located at Nashville Avenue and Grain Elevator Road; Site 18 (5.5 acres, expires 8/31/2011)—Pacorini Metals USA (Pacorini), 5050 Almonster Avenue, New Orleans; Site 19 (4.89 acres, expires 8/31/2011)—Pacorini, 5042 Bloomfield Street, Jefferson; Site 20 (1.4 acres, expires 8/31/2011)—Pacorini, Port of New Orleans, Alabo Street Terminal; Site 21 (17.23 acres, 6 parcels, expires 8/31/2011)—Neeb-Kearney, Inc. (NKI), Port of New Orleans Louisiana Avenue Marine Terminal Complex; Site 22 (29.34 acres, expires 8/31/2011)—Dupuy Storage & Forwarding Corporation (Dupuy), 4300 Jourdan Road, New Orleans; Site 23 (10.58 acres, expires 8/31/2011)—Dupuy, 13601 Old Gentilly Road, New Orleans; Site 24 (27.3 acres, expires 8/31/2011)—Transportation Consultants, Inc., 4010 France Road Parkway, New Orleans; Site 25 (7 acres)—Pacorini & PCS, 5200 Coffee Drive, New Orleans; Site 26 (2 acres)—Pacorini, 601 Market Street, New Orleans; Site 27 (2 acres)—Pacorini, 1601 Tchoupitoulas Street, New Orleans; Site 28 (12 acres)—Dupuy, 5630 Douglas Street, New Orleans; Site 29 (9 acres)—MITS, 6230 Bienvenue Street, New Orleans; Site 30 (7 acres)—Dupuy, 1400 Montegut Street, New Orleans; Site 31 (1 acre)—Pacorini, 1645 Tchoupitoulas Street, New Orleans; Site 32 (1 acre)—London Metal Exchange (LME) warehouse, 1770 Tchoupitoulas Street, New Orleans; Site 33 (9 acres)—MITS, 1930 Japonica Street, New Orleans; Site 34 (2 acres)—Pacorini, 2941 Royal Street, New Orleans; Site 35 (2.52 acres)—MITS, 600 Market Street, New Orleans, 1662 St. Thomas Street, New Orleans and 619 St. James Street, New Orleans; Site 36 (1 acre)—MITS, 3101 Charters Street, New Orleans; Site 37 (1 acre)—Dupuy, 2601 Decatur Street, New Orleans; Site 38 (1 acre)—Dupuy, 2520 Decatur Street, New Orleans; Site 39 (13 acres)—Dupuy, 5300 Old Gentilly Boulevard, New Orleans; Site 40 (8 acres)—PCS, 4400 Florida Avenue, New Orleans; Site 41 (2 acres)—PCS, 410/420/440 Josephine Street, New Orleans and 427 Jackson Avenue, New Orleans; Site 42 (7 acres)—MITS, 500 Louisiana Avenue, New Orleans; Site 43 (1 acre)—Dave Streiffer Warehouse, 500 N. Cortez Street, New Orleans; Site 44 (3 acres)—LME warehouse, 720 Richard Street, New Orleans; Site 45 (12 acres)—PCS, 701/801 Thayer Street, New Orleans and 700/800 Atlantic Street, New Orleans; Site 46 (9 acres)—PCS, 500 Edwards Avenue, New Orleans; Site 47 (9 acres)—NKI, 14100 Chef Menteur Highway, New Orleans; Site 48 (1 acre)—PCS, 2114-2120 Rousseau Street, New Orleans; Site 49 (10 acres)—LME warehouse, 1000 Burmaster Street, New Orleans; Site 50 (7 acres)—LME warehouse, 6025 River Road, New Orleans; Site 51 (17 acres)—PCS, 620/640 River Road, New Orleans; Site 52 (1 acre)—Stoyonoff Warehouses, 1806 Religious Street, New Orleans; Site 53 (3 acres)—Delivery Network, 1050 S. Jeff Davis Parkway, New Orleans; Site 54 (2 acres)—PCS, 1600 Annunciation Street, New Orleans; Site 55 (5 acres)—Pacorini, 402 Alabo Street, New Orleans; Site 56 (4 acres)—NKI, 4400 N. Galvez Street, New Orleans; Site 57 (2 acres)—LME warehouse, 1883 Tchoupitoulas Street, New Orleans; Site 58 (2 acres)—LME warehouse, 2311 Tchoupitoulas Street, New Orleans; Site 59 (2 acres)—Pacorini, 2940 Royal Street, New Orleans; Site 60 (1.62 acres)—NKI, 4403/4405 Roland Street, New Orleans; and, Site 61 (3 acres)—Dupuy, 6101 Terminal Drive, New Orleans.

The grantee's proposed service area under the ASF would be Orleans, Jefferson and St. Bernard Parishes, Louisiana. If approved, the grantee would be able to serve sites throughout the service area based on companies' needs for FTZ designation. The proposed service area is adjacent to the New Orleans Customs and Border Protection port of entry.

The applicant is requesting authority to reorganize its existing zone project as follows: Sites 2, 4, 6 and 7 would become “magnet” sites; Sites 1 and 8-61 would become “usage-driven” sites; and, Site 3 would be removed from the zone project due to changed circumstances. The applicant proposes that Site 2 be exempt from “sunset” time limits that otherwise apply to sites under the ASF. No new magnet or usage-driven sites are being requested at this time. Because the ASF only pertains to establishing or reorganizing a general-purpose zone, the application would have no impact on FTZ 2's authorized subzones.

In accordance with the Board's regulations, Camille Evans of the FTZ Staff is designated examiner to evaluate and analyze the facts and information presented in the application and case record and to report findings and recommendations to the Board.

Public comment is invited from interested parties. Submissions (original and 3 copies) shall be addressed to the Board's Executive Secretary at the address below. The closing period for their receipt is February 22, 2010. Rebuttal comments in response to material submitted during the foregoing period may be submitted during the subsequent 15-day period to March 8, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Camille Evans at Camille.Evans@trade.gov or (202) 482-2350.

Dated: December 14, 2009.
Andrew McGilvray,
Executive Secretary.

[FR Doc. E9-30397 Filed 12-21-09; 8:45 am]

BILLING CODE P